DEPARTMENT OF EDUCATION

Applications for New Awards; Assistance for Arts Education Program

AGENCY: Office of Elementary and Secondary Education, Department of Education.

ACTION: Notice.

SUMMARY: The Department of Education (Department) is issuing a notice inviting applications for new awards for fiscal year (FY) 2025 for the Assistance for Arts Education (AAE) program.

DATES:

Applications Available: August 11, 2025.

Deadline for Transmittal of Applications: August 25, 2025.

The Department will post a preapplication presentation for prospective applicants. To access the preapplication presentation, visit the AAE program web page at https://www.ed.gov/grants-and-programs/grants-birth-grade-12/well-rounded-education-grants/assistance-for-arts-education.

ADDRESSES: For the addresses for obtaining and submitting an application, please refer to our Common Instructions for Applicants to Department of Education Discretionary Grant Programs, published in the Federal Register on December 23, 2024 (89 FR 104528) and available at www.federalregister.gov/documents/2024/12/23/2024-30488/common-instructions-for-applicants-to-department-of-education-discretionary-grant-programs.

FOR FURTHER INFORMATION CONTACT: Asheley McBride or Sharon Burton, U.S. Department of Education, 400 Maryland Avenue SW, Washington, DC 20202-6450. Telephone: (202) 453-6398 or (202) 987-1762. Email: AssistanceforArtsEducation@ed.gov.

If you are deaf, hard of hearing, or have a speech disability and wish to access telecommunications relay services, please dial 7-1-1.

SUPPLEMENTARY INFORMATION:

Full Text of Announcement

I. Funding Opportunity Description

Purpose of Program: The AAE program promotes arts education for students, including disadvantaged students and students who are children with disabilities, through activities such as (a) professional development for arts educators, teachers, and principals; (b) development and dissemination of accessible instructional materials and arts-based educational programming, including online resources, in multiple arts disciplines; and (c) community and national outreach activities that strengthen and expand partnerships among schools, local educational agencies (LEAs), communities, or centers for the arts, including national centers for the arts.

Assistance Listing Number: 84.351A.

OMB Control Number: 1894-0006.

Eligible Applicants: To be considered for an award under this competition, an applicant must be one of the following:

(1) An LEA in which 20 percent or more of the students served by the local educational agency are from families with an income below the poverty line; ¹

¹ An LEA must show that at least 20 percent of children ages five to 17 that reside within the LEA's boundaries are from low-income families based on the most recent LEA poverty estimates provided by the U.S. Census Bureau. The Census LEA poverty estimates are available at: www.census.gov/programs-surveys/saipe.html.

(2) A consortium of such LEAs;

(3) A State educational agency;

(4) An institution of higher education;

(5) A museum or cultural institution;

(6) The Bureau of Indian Education;

(7) An eligible national nonprofit organization; or

(8) Another private agency, institution, or organization.

Application Requirement: Applicants that are LEAs must provide, in the application, data from the most recent U.S. Census as evidence that the LEAs meet the statutory requirement that 20 percent or more of the students served by the LEA (or for each LEA within a consortium of LEAs) are from families with an income below the Federal poverty line.

Note: Other applicants that are eligible under the definition of an LEA, such as County Offices of Education, Education Service Districts, and Regional Service Education Agencies, must provide the most recent U.S. Census data for each of the individual LEAs served. For charter schools for which U.S. Census data is not available, eligibility will be based on a determination by the SEA, consistent with the manner in which the SEA determines the charter school LEA's eligibility for the Title I allocations, that 20 percent of the students aged 5-17 in the LEA are from families with incomes below the Federal poverty line. Applicants must submit documentation from the State certifying official verifying that the SEA has determined this eligibility requirement is met for each LEA not listed in the Small Area Income Poverty Estimates (SAIPE) data.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

Note: A faith-based organization is eligible to apply for and receive a grant under this program on the same basis as any other private organization, consistent with Appendix A to 34 CFR part 75.

II. Award Information

Type of Award: Discretionary grants.

Estimated Available Funds: $13,000,000.

Contingent upon the availability of funds and the quality of applications, we may make additional awards in subsequent years from the list of unfunded applications from this competition.

Estimated Range of Awards: $750,000-$1,000,000 per year.

Estimated Average Size of Awards: $850,000 per year.

Maximum Award: We will not make an award exceeding $1,000,000 for a single budget period of 12 months.

Estimated Number of Awards: 3-4.

Note: The Department is not bound by any estimates in this notice. The estimated range and average size of awards are based on a single 12-month budget period. We may use FY 2025 funds to support multiple 12-month budget periods for one or more grantees.

Project Period: Up to 60 months.

Background: The Elementary and Secondary Education Act of 1965, as amended (ESEA), authorizes activities under the AAE program that enrich the academic experience of students by promoting arts education.

Priorities: This notice contains one competitive priority and one invitational priority. The competitive priority is from section 4642(d) of the ESEA.

Competitive Priority: For FY 2025 and any subsequent year in which we make awards from the list of unfunded applications from this competition, this priority is a competitive preference priority.

This priority is:

Eligible National Nonprofit Organization (0 or 15 points).

Under this priority, the Secretary gives priority to eligible entities that are eligible national nonprofit organizations. The term “eligible national nonprofit organization” means an organization of national scope that—

(a) Is supported by staff, which may include volunteers, or affiliates at the State and local levels; and

(b) Demonstrates effectiveness or high-quality plans for addressing arts education activities for disadvantaged students or students who are children with disabilities.

Invitational Priority: For FY 2025 and any subsequent year in which we make awards from the list of unfunded applications from this competition, this priority is an invitational priority. Under 34 CFR 75.105(c)(1) we do not give an application that meets this invitational priority a competitive or absolute preference over other applications.

This priority is:

Invitational Priority—Patriotic Education.

The Department encourages projects that are designed to provide an introduction to and understanding of the founding documents and primary sources of the American political tradition, in a manner consistent with the principles of a patriotic education. Projects may address one or more of the following topics:

(a) United States Constitution, government, and civics.

(b) United States history and geography.

(c) United States military and diplomatic history.

(d) United States literature and rhetoric.

(e) United States art, such as architecture, painting, music, photography, theater, cinema, and sculpture.

(f) The founding documents and primary sources of Western Civilization and the American founding and their influence on the American political tradition.

(g) The influence of Western Europe upon the American political tradition.

Requirements: For FY 2025 and any subsequent year in which we make awards from the list of unfunded applications from this competition, the following program requirements from sections 4642(a) and (b) of the ESEA (20 U.S.C. 7292(a) and (b)) apply.

Program Requirements. Projects funded under this program must—

(1) Promote arts education for students, including disadvantaged students and students who are children with disabilities. In meeting this requirement, projects may implement activities such as—

(a) Professional development for arts educators, teachers, and principals;

(b) Development and dissemination of accessible instructional materials and arts-based educational programming, including online resources, in multiple arts disciplines;

(c) Community and national outreach activities that strengthen and expand partnerships among schools, LEAs, communities, or centers for the arts, including national centers for the arts; and

(2) Coordinate, to the extent practicable, with appropriate activities of public or private cultural agencies, institutions, and organizations, including museums, arts education associations, libraries, and theaters.

Selection Criteria: The selection criteria for this competition are from 34 CFR 75.210. The points assigned to each criterion are indicated in the parentheses next to the criterion. An applicant may earn up to a total of 100 points based on the selection criteria.

(a) Quality of the project design (up to 35 points).

The Secretary considers the quality of the design of the proposed project. In determining the quality of the design of the proposed project, the Secretary considers the following factors:

(1) The extent to which the goals, objectives, and outcomes to be achieved by the proposed project are clearly specified, measurable, and ambitious yet achievable within the project period, and aligned with the purposes of the grant program. (up to 20 points)

(2) The quality of the logic model or other conceptual framework underlying the proposed project, including how inputs are related to outcomes. (up to 15 points)

(b) Quality of the management plan (up to 30 points).

The Secretary considers the quality of the management plan for the proposed project. In determining the quality of the management plan for the proposed project, the Secretary considers:

(1) The extent to which the key personnel in the project, when hired, have the qualifications required for the proposed project, including formal training or work experience in fields related to the objectives of the project, and represent or have lived experiences of the target population. (up to 10 points)

(2) The feasibility of the management plan to achieve project objectives and goals on time and within budget, including clearly defined responsibilities, timelines, and milestones for accomplishing project tasks. (up to 10 points)

(3) The quality of the mechanisms the applicant will use to broadly disseminate information and resources on its project to support further development, adaptation, or replication by other entities to implement project components in additional settings or with other populations. (up to 10 points)

(c) Adequacy of resources (up to 35 points).

The Secretary considers the adequacy of resources for the proposed project. In determining the adequacy of resources for the proposed project, the Secretary considers the following factors:

(1) The extent to which the budget is adequate to support the proposed project and the costs are reasonable in relation to the objectives, design, and potential significance of the proposed project. (up to 20 points)

(2) The extent to which the costs are reasonable in relation to the number of persons to be served, the depth and intensity of services, and the anticipated results and benefits. (up to 15 points)

Performance Measures: The Department has established the following performance measures for the AAE program for the purpose of Department reporting under 34 CFR 75.110: (1) The total number of students who participate in arts education provided directly by the grantee's project; (2) The number of AAE participants (arts educators, teachers, principals, and other support staff) who receive at least 10 hours of direct professional development provided by the grantee; (3) The number of accessible, arts-based instructional materials that are developed and disseminated by the grantee; (4) The total number of students from low-income families who participate in arts education provided directly by the grantee's project; and (5) The total number of students with disabilities who participate in arts education provided directly by the grantee's project.

All grantees will be expected to submit an annual performance report that includes data addressing these performance measures to the extent that they apply to the grantee's project.

Definitions: The definitions of “logic model,” “project component,” and “relevant outcome” are from 34 CFR 77.1. The definitions of “child with a disability,” “local educational agency,” and “State educational agency” are from section 8101 of the ESEA (20 U.S.C. 7801). The definition of “eligible national nonprofit organization” is from section 4642(e)(2) of the ESEA (20 U.S.C. 7292(e)(2)). The definitions for this competition can be found under Applicant Information at the AAE web page—Definitions of Terms.

Program Authority: ESEA section 4642 (20 U.S.C. 7292).

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Financial Assistance in 2 CFR part 200, as adopted and amended as regulations of the Department in 2 CFR part 3474. (d) The regulations for this program in 34 CFR part 299.

Note: The regulations in 34 CFR part 79 apply to all applicants except federally recognized Indian Tribes.

Note: The regulations in 34 CFR part 86 apply to institutions of higher education only.

1. a. Cost Sharing or Matching: This competition does not require cost sharing or matching.

b. Supplement-Not-Supplant: This competition involves supplement-not-supplant funding requirements. Under section 4642(b)(2) of the ESEA, funds must be used to supplement, and not supplant, non-Federal funds that would otherwise be used for activities authorized under this program (20 U.S.C. 1221e-3, 3474, and 6511(a)). Accordingly, grantees must comply with 34 CFR 76.564 through 76.569, which apply to agencies of State and local governments that are grantees under programs with a statutory requirement prohibiting the use of Federal funds to supplant non-Federal funds.

c. Indirect Cost Rate Information: This competition uses a restricted indirect cost rate. For more information regarding indirect costs, or to obtain a negotiated indirect cost rate, please see https://www.ed.gov/about/ed-offices/ofo#Indirect-Cost-Division.

d. Administrative Cost Limitation: This competition does not include any program-specific limitation on administrative expenses. All administrative expenses must be reasonable and necessary and conform to Cost Principles described in 2 CFR part 200 subpart E of the Uniform Guidance.

2. Subgrantees: A grantee under this competition may not award subgrants to entities to directly carry out project activities described in its application.

III. Application and Submission Information

1. Application Submission Instructions: Applicants are required to follow the Common Instructions for Applicants to Department of Education Discretionary Grant Programs, published in the Federal Register on December 23, 2024 (89 FR 104528) and available at www.federalregister.gov/documents/2024/12/23/2024-30488/common-instructions-for-applicants-to-department-of-education-discretionary-grant-programs, which contain requirements and information on how to submit an application.

2. Submission of Proprietary Information: Given the types of projects that may be proposed in applications for the AAE program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition. However, under 34 CFR 79.8(a), we waive intergovernmental review in order to make an award by the end of FY 2025.

4. Funding Restrictions: We reference regulations outlining funding restrictions in the Applicable Regulations section of this notice.

5. Recommended Page Limit: The application narrative is where you, the applicant, address the selection criteria that reviewers use to evaluate your application. We recommend that you (1) limit the application narrative to no more than 25 pages and (2) use the following standards:

• A “page” is 8.5″ x 11″ on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; the one-page abstract, resumes, bibliography, logic model, or letters of support. However, the recommended page limit does apply to all of the application narrative.

Note: The applicant should include, as an attachment, the logic model used to address selection criterion (a)(2).

Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

2. Risk Assessment and Specific Conditions: Consistent with 2 CFR 200.206, before awarding grants under this competition the Department conducts a review of the risks posed by applicants. Under 2 CFR 200.208, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

V. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VI. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Hayley B. Sanon,
Principal Deputy Assistant Secretary and Acting Assistant Secretary, Office of Elementary and Secondary Education.

[FR Doc. 2025-15154 Filed 8-8-25; 8:45 am]

BILLING CODE 4000-01-P